DEPARTMENT OF ENERGY

Federal Energy Regulatory Commission

Combined Notice of Filings #1

March 31, 2006.

Take notice that the Commission received the following electric rate filings.

Docket Numbers: ER05-6-044; EL04-135-046; EL02-111-064; EL03-212-060

Applicants: Midwest Independent Transmission System Operator, Inc.; PJM Interconnection, L.L.C.; Midwest ISO Transmission Owners; Midwest StandAlone Transmission Companies; PJM and West Transmission Owners Agreement Administrative Committees.

Description: PJM Interconnection, LLC, Midwest ISO Transmission Owners et al. jointly submit its revisions to their Joint Operating Agreement.

Filed Date: 03/21/2006.

Accession Number: 20060328-0011.

Comment Date: 5 p.m. Eastern Time on Tuesday, April 11, 2006.

Docket Numbers: ER05-537-001.

Applicants: PacifiCorp.

Description: PacifiCorp submits an Amended and Restated AC Intertie Agreement with Bonneville Power Administration in compliance with FERC's 3/15/05 Letter Order.

Filed Date: 03/22/2006.

Accession Number: 20060328-0014.

Comment Date: 5 p.m. Eastern Time on Wednesday, April 12, 2006.

Docket Numbers: ER05-1234-001.

Applicants: Pacificorp.

Description: PacifiCorp submits revised tariff sheets First Revised Sheet 44 et al. to FERC Electric Tariff, Fifth Revised Volume 11, to be effective 4/1/06.

Filed Date: 03/22/2006.

Accession Number: 20060328-0013.

Comment Date: 5 p.m. Eastern Time on Wednesday, April 12, 2006.

Docket Numbers: ER05-1501-001.

Applicants: California Independent System Operator Corporation.

Description: California Independent System Operator Corp. submits its Simplified and Reorganized Tariff conformed through 3/6/06 in response to the Commission 2/24/06 Order.

Filed Date: 03/22/2006.

Accession Number: 20060328-0113.

Comment Date: 5 p.m. Eastern Time on Wednesday, April 12, 2006.

Docket Numbers: ER06-726-000.

Applicants: Madison Windpower, LLC.

Description: Madison Windpower, LLC withdraws its Petition for Order Accepting Market Based Rate Schedule filed 3/14/06.

Filed Date: 03/22/2006.

Accession Number: 20060322-5016

Comment Date: 5 p.m. Eastern Time on Wednesday, April 12, 2006.

Docket Numbers: ER06-780-000.

Applicants: American Electric Power Service Corporation.

Description: American Electric Power Service Corp. on behalf of American Electric Power Co., Inc Operating Companies submits a proposed service agreement to transact with Ohio Valley Electric Corporation.

Filed Date: 03/24/2006.

Accession Number: 20060328-0084.

Comment Date: 5 p.m. Eastern Time on Friday, April 14, 2006.

Docket Numbers: ER06-781-000

Applicants: New York State Electric & Gas Corporation.

Description: New York State Electric & Gas Corp. submits its Original Service Agreement 918, under New York Independent System Operator, LLC's OATT, FERC Electric Tariff, Original Volume 1 with Triton Power Co.

Filed Date: 03/24/2006.

Accession Number: 20060328-0146.

Comment Date: 5 p.m. Eastern Time on Friday, April 14, 2006.

Docket Numbers: ER06-782-000.

Applicants: Tucson Electric Power Company.

Description: Tuscon Electric Power Co. submits its transmission line project participation agreement, Rate Schedule FERC 246, with Electrical District 2, Pinal County et al., to be effective within 60 days of the 5/23/06 letter.

Filed Date: 03/24/2006.

Accession Number: 20060328-0015.

Comment Date: 5 p.m. Eastern Time on Friday, April 14, 2006.

Docket Numbers: ER06-783-000.

Applicants: New York Independent System Operator, Inc.

Description: New York Independent System Operator, Inc. submits proposed revisions to its Market Administration and Control Area Services Tariff et al. to revise provisions re the review, challenge and correction of customer settlement info.

Filed Date: 03/24/2006.

Accession Number: 20060328-0016.

Comment Date: 5 p.m. Eastern Time on Friday, April 14, 2006.

Docket Numbers: ER06-784-000.

Applicants: Rumford Falls Hydro LLC.

Description: Rumford Falls Hydro, LLC's application for market-based rate authorization, certain waivers, and blanket authorizations and request for expedited action.

Filed Date: 03/24/2006.

Accession Number: 20060328-0017.

Comment Date: 5 p.m. Eastern Time on Friday, April 14, 2006.

Docket Numbers: ER06-785-000.

Applicants: Midwest Independent Transmission System Operator, Inc.; Midwest ISO Transmission Owners.

Description: Midwest Independent Transmission System Operator, Inc. and Midwest ISO Transmission Owners submit its proposed revisions to the Midwest ISO Agreement, effective 4/1/06.

Filed Date: 03/24/2006.

Accession Number: 20060328-0018.

Comment Date: 5 p.m. Eastern Time on Friday, April 14, 2006.

Docket Numbers: ER06-786-000.

Applicants: American Electric Power Services Corporation.

Description: American Electric Power Service Corp., on behalf of the AEP Eastern Operating Companies submits a Second Amended and Restated PJM Services and Cost Allocation Agreement etc.

Filed Date: 03/24/2006.

Accession Number: 20060328-0019.

Comment Date: 5 p.m. Eastern Time on Friday, April 14, 2006.

Docket Numbers: ER06-787-000.

Applicants: Idaho Power Company.

Description: Idaho Power Co. submits revisions to its OATT, First Revised Volume 5, along with a correction to its 3/24/05 filing filed 3/29/06.

Filed Date: 03/24/2006; 03/29/06.

Accession Number: 20060328-0101.

Comment Date: 5 p.m. Eastern Time on Wednesday, April 19, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-5280 Filed 4-10-06; 8:45 am]

BILLING CODE 6717-01-P